DEPARTMENT OF THE TREASURY

Office of Foreign Assets Control

31 CFR Part 587

Publication of Russian Harmful Foreign Activities Sanctions Regulations Determinations

AGENCY: Office of Foreign Assets Control, Treasury.

ACTION: Publication of determinations.

SUMMARY: The Department of the Treasury's Office of Foreign Assets Control (OFAC) is publishing one determination issued pursuant to an April 15, 2021 Executive order, as amended on December 22, 2023. OFAC is also publishing one new and one amended determination issued pursuant to a March 11, 2022 Executive order, as amended on December 22, 2023. The determinations were previously issued on OFAC's website.

DATES: The Determination Pursuant to Section 11(a)(ii) of Executive Order 14024 took effect on December 22, 2023. See SUPPLEMENTARY INFORMATION for additional relevant dates.

FOR FURTHER INFORMATION CONTACT: OFAC: Assistant Director for Licensing, 202-622-2480; Assistant Director for Regulatory Affairs, 202-622-4855; or Assistant Director for Compliance, 202-622-2490 or https://ofac.treasury.gov/contact-ofac.

SUPPLEMENTARY INFORMATION:

Electronic Availability

This document and additional information concerning OFAC are available on OFAC's website: https://ofac.treasury.gov.

Background

On April 15, 2021, the President, invoking the authority of, inter alia, the International Emergency Economic Powers Act (50 U.S.C. 1701 et seq.) (IEEPA), issued Executive Order (E.O.) 14024, “Blocking Property With Respect To Specified Harmful Foreign Activities of the Government of the Russian Federation” (86 FR 20249, April 19, 2022).

On December 22, 2023, the President, invoking the authority of, inter alia, IEEPA, issued E.O. 14114, “Taking Additional Steps With Respect to the Russian Federation's Harmful Activities” (88 FR 89271, December 26, 2023). Among other things, E.O. 14114 amends E.O. 14024 to redesignate section 11 as section 12 and add a new section 11. Section 11(a) of E.O. 14024, as amended, provides that the Secretary of the Treasury, in consultation with the Secretary of State, and with respect to subsection (a)(ii) of this section, in consultation with the Secretary of State and the Secretary of Commerce, is hereby authorized to impose on a foreign financial institution the sanctions described in subsection (b) of this section, upon determining that the foreign financial institution has met the criteria in section 11(a)(i) or section 11(a)(ii). Section 11(a)(ii) of E.O. 14024, as amended, authorizes the imposition of sanctions on a foreign financial institution that has conducted or facilitated any significant transaction or transactions, or provided any service, involving Russia's military-industrial base, including the sale, supply, or transfer, directly or indirectly, to the Russian Federation of any item or class of items as may be determined by the Secretary of the Treasury, in consultation with the Secretary of State and the Secretary of Commerce.

E.O. 14114 also amends E.O. 14068 by striking subsection (a)(i) of section 1 of E.O. 14068 and inserting a new subsection (a)(i). Subsection (a)(i)(A) of E.O. 14068, as amended, provides that the importation and entry into the United States, including importation for admission into a foreign trade zone located in the United States, of the following products of Russian Federation origin: fish, seafood, and preparations thereof; alcoholic beverages; non-industrial diamonds; and any other products of Russian Federation origin, as may be determined by the Secretary of the Treasury, in consultation with the Secretary of State and the Secretary of Commerce is prohibited.

Subsection (a)(i)(B) of E.O. 14068, as amended, provides that the importation and entry into the United States, including importation for admission into a foreign trade zone located in the United States, of categories of any of the following products as may be determined by the Secretary of the Treasury, in consultation with the Secretary of State, the Secretary of Commerce, and the Secretary of Homeland Security, that were mined, extracted, produced, or manufactured wholly or in part in the Russian Federation, or harvested in waters under the jurisdiction of the Russian Federation or by Russia-flagged vessels, notwithstanding whether such products have been incorporated or substantially transformed into other products outside of the Russian Federation: fish, seafood, and preparations thereof; diamonds; and any other such products as may be determined by the Secretary of the Treasury, in consultation with the Secretary of State, the Secretary of Commerce, and the Secretary of Homeland Security is prohibited.

On December 22, 2023, pursuant to delegated authority, the Director of OFAC, in consultation with the Secretary of State and the Secretary of Commerce, issued a determination identifying certain items or classes of items pursuant to section 11(a)(ii) of E.O.14024, as amended by E.O. 14114. Also on December 22, 2023, pursuant to delegated authority, the Director of OFAC, in consultation with the Department of State, the Department of Commerce, and the Department of Homeland Security, issued a determination pursuant to sections 1(a)(i)(B), 1(b), and 5 of E.O. 14068 to determine that the prohibitions in section 1(a)(i)(B) of E.O. 14068 shall apply to certain categories of fish, seafood, and preparations thereof. Additionally, on December 22, 2023, the Director of OFAC, in consultation with the Department of State and the Department of Commerce, re-issued an amended determination pursuant to sections 1(a)(i)(A), 1(b), and 5 of E.O. 14068 that had previously determined that the prohibitions in section 1(a)(i) of E.O. 14068 applied to gold of Russian Federation origin. Each determination was made available on OFAC's website (https://ofac.treasury.gov) when it was issued. The text of these determinations is below.

OFFICE OF FOREIGN ASSETS CONTROL

Determination Pursuant to Section 11(a)(ii) of Executive Order 14024

Section 11(a)(ii) of Executive Order (E.O.) 14024 of April 15, 2021 (“Blocking Property With Respect To Specified Harmful Foreign Activities of the Government of the Russian Federation”), as amended by E.O. of December 22, 2023 (“Taking Additional Steps With Respect to the Russian Federation's Harmful Activities”), authorizes the Secretary of the Treasury, in consultation with the Secretary of State and the Secretary of Commerce, to impose sanctions on a foreign financial institution upon determining that the foreign financial institution has conducted or facilitated any significant transaction or transactions, or provided any service, involving Russia's military-industrial base, including the sale, supply, or transfer, directly or indirectly, to the Russian Federation, of any item or class of items as may be determined by the Secretary of the Treasury, in consultation with the Secretary of State and the Secretary of Commerce.

To further address the unusual and extraordinary threat to the national security, foreign policy, and economy of the United States described in E.O. 14024, as amended, and in consultation with the Department of State and the Department of Commerce and pursuant to 31 CFR 587.802, I hereby determine that section 11(a)(ii) of E.O. 14024 shall apply to items or classes of items listed in the Annex to this determination.

This determination shall take effect on December 22, 2023.

Bradley T. Smith,

Director, Office of Foreign Assets Control.

Dated: December 22, 2023.

Annex to Determination Regarding Certain Items or Class of Items of December 22, 2023
| Items determined pursuant to E.O. 14024, Sec. 11(a)(ii)
Certain machine tools and manufacturing equipment | Numerically controlled (CNC) machine tools. Additive manufacturing (AM) machine tools. Semiconductor manufacturing equipment.
Certain manufacturing materials for semiconductors and related electronics | Silicon boules. Silicon wafers. Photoresist materials. Bare printed circuit boards (PCBs). Printed circuit board (PCB) substrates.
Certain electronic test equipment | Oscilloscopes. Automated test equipment. Data acquisition systems. Signal generators. Pulse generators. Spectrum analyzers.
Certain propellants, chemical precursors for propellants and explosives | Nitrocellulose. Smokeless powder. Research Department eXplosive (RDX, also known as Royal Demolition eXplosive, cyclonite, hexogen). High Melting eXplosive (HMX, also known as High-Molecular-Weight RDX, octogen, cyclotetramethylenetetranitramine).
Certain lubricants and lubricant additives | Turbine oil. Turbine oil additives.
Certain bearings | High-precision ball and roller bearings Angular contact (spindle) bearings
Certain advanced optical systems | Thermal sights. Thermal imaging arrays. Infrared focal plane arrays. Image intensifier tubes (IITs).
Certain navigation instruments | Inertial navigation systems (INS). Inertial measurement units (IMUs). Fiber-optic gyroscopes (FOGs).

OFFICE OF FOREIGN ASSETS CONTROL

Determination Pursuant to Section 1(a)(i)(B) of Executive Order 14068

Prohibitions Related to Imports of Certain Categories of Fish, Seafood, and Preparations Thereof

Pursuant to section 1(a)(i)(B), 1(b), and 5 of Executive Order (E.O.) 14068 of March 11, 2022 (“Prohibiting Certain Imports, Exports, and New Investment With Respect to Continued Russian Federation Aggression”), as amended by E.O. of December 22, 2023 (“Taking Additional Steps With Respect to the Russian Federation's Harmful Activities”), and 31 CFR 587.802, and in consultation with the Department of State, the Department of Commerce, and the Department of Homeland Security, I hereby determine that the prohibitions in section 1(a)(i)(B) of E.O. 14068 shall apply to the following categories of fish, seafood, and preparations thereof, that were produced wholly or in part in the Russian Federation, or harvested in waters under the jurisdiction of the Russian Federation or by Russia-flagged vessels, notwithstanding whether such fish, seafood, and preparations thereof have been incorporated or substantially transformed into another product outside of the Russian Federation: salmon, cod, pollock, and crab. As a result, the importation and entry into the United States, including importation for admission into a foreign trade zone located in the United States, of such salmon, cod, pollock, or crab is prohibited, except to the extent provided by law, or unless licensed or otherwise authorized by the Office of Foreign Assets Control.

This determination shall take effect on December 22, 2023.

Bradley T. Smith,

Director, Office of Foreign Assets Control.

Dated: December 22, 2023.

OFFICE OF FOREIGN ASSETS CONTROL

Determination Pursuant to Section 1(a)(i)(A) of Executive Order 14068

Prohibitions Related to Imports of Gold of Russian Federation Origin (as Amended) ¹

¹ A prior version of this determination prohibited the same activities. This amended version of the determination reflects technical, non-substantive changes in light of an amendment to Executive Order 14068.

Pursuant to sections 1(a)(i)(A), 1(b), and 5 of Executive Order (E.O.) 14068 of March 11, 2022 (“Prohibiting Certain Imports, Exports, and New Investment With Respect to Continued Russian Federation Aggression”), as amended by E.O. of December 22, 2023 (“Taking Additional Steps with Respect to the Russian Federation's Harmful Activities”), and 31 CFR 587.802, the Director of the Office of Foreign Assets Control, in consultation with the Department of State and the Department of Commerce, hereby determines that the prohibitions in section 1(a)(i)(A) of E.O. 14068 shall apply to gold of Russian Federation origin. As a result, the importation into the United States of gold of Russian Federation origin is prohibited, except to the extent provided by law, or unless licensed or otherwise authorized by the Office of Foreign Assets Control.

This determination excludes gold of Russian Federation origin that was located outside of the Russian Federation prior to June 28, 2022.

This determination became effective upon June 28, 2022.

Bradley T. Smith,

Director, Office of Foreign Assets Control.

Dated: December 22, 2023.

Lisa M. Palluconi,
Acting Director, Office of Foreign Assets Control.

[FR Doc. 2024-21798 Filed 9-24-24; 8:45 am]

BILLING CODE 4810-AL-P